FEDERAL COMMUNICATIONS COMMISSION

Notice of Public Information Collection(s) Being Reviewed by the Federal Communications Commission, Comments Requested

August 3, 2004.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 8, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control Number: 3060-0370.

Title: Part 32, Uniform System of Accounts for Telecommunications Companies.

Form Number: N/A.

Type of Review: Revision of a currently approved collection.

Respondents: Business or other for-profit.

Number of Respondents: 239.

Estimated Time per Response: 104-26,195 hours.

Frequency of Response: On occasion reporting requirement; recordkeeping requirement.

Total Annual Burden: 1,516,702 hours.

Total Annual Cost: N/A.

Privacy Impact Assessment: No impact(s).

Needs and Uses: The Uniform System of Accounts is a historical financial accounting system which reports the results of operational and financial events in a manner which enables both management and regulators to assess these results within a specified accounting period. Subject respondents are telecommunications companies. In the Report and Order, FCC 04-149, the Commission adopted the Joint Conference's recommendations to reinstate Part 32, Class A accounts which includes: Account 5230, Directory Revenue; Account 6621, Call Completion Services; Account 6622, Number Services; Account 6623, Customer Services; Account 6561, Depreciation Expense-Telecommunications Plant In Service; Account 6562, Depreciation Expense-Property Held for Future Telecommunications Use; Account 6563, Amortization Expense-Tangible; Account 6564, Amortization Expense-Intangible; Account 6565, Amortization Expense-Other. These accounting changes are mandatory only for non-mid-sized Class A Incumbent Local Exchange Carriers (ILECs). The reinstatement of these accounts, however, will not impose any additional burden on non-mid-sized Class A ILECs because the Commission's prior action to aggregate the accounts has been suspended. Similarly, the Commission's reinstatement of the sheath kilometer reporting requirement in the ARMIS 43-07 will not impose any additional burden on non-mid-sized Class A ILECs. Entities having annual revenues from regulatory telecommunications operations of less than $123 million are designated as Class B and are subject to a less detailed accounting system than those designated as Class A companies.

Federal Communications Commission.
Marlene H. Dortch,
Secretary.

[FR Doc. 04-18146 Filed 8-6-04; 8:45 am]

BILLING CODE 6712-10-P